DEPARTMENT OF TRANSPORTATION

Federal Aviation Administration

14 CFR Part 39

[Docket No. FAA-2013-1072; Directorate Identifier 2012-NM-164-AD]

RIN 2120-AA64

Airworthiness Directives; Airbus Airplanes

AGENCY: Federal Aviation Administration (FAA), DOT.

ACTION: Notice of proposed rulemaking (NPRM).

SUMMARY: We propose to supersede Airworthiness Directive (AD) 2012-03-04, for certain Airbus Model A310 series airplanes. AD 2012-03-04 currently requires, for certain airplanes, modifying the wire routing and installing additional protective sleeves. Since we issued AD 2012-03-04, we received reports of new interferences of newly routed wire bundle 2S. This proposed AD would continue to require the actions in AD 2012-03-04, and would require additional work for certain airplanes. We are proposing this AD to prevent short circuits leading to arcing, and possible fuel tank explosion.

DATES: We must receive comments on this proposed AD by February 28, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2013-1072; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2013-1072; Directorate Identifier 2012-NM-164-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On January 26, 2012, we issued AD 2012-03-04, Amendment 39-16945 (77 FR 21397, April 10, 2012). AD 2012-03-04 required actions intended to address an unsafe condition on certain Airbus Model A310 series airplanes.

Since we issued AD 2012-03-04, Amendment 39-16945 (77 FR 21397, April 10, 2012), we received reports of new interferences of newly routed wire bundle 2S.

The European Aviation Safety Agency (EASA), which is the Technical Agent for the Member States of the European Community, has issued EASA Airworthiness Directive 2012-0188, dated September 19, 2012 (referred to after this as the Mandatory Continuing Airworthiness Information, or “the MCAI”), to correct an unsafe condition for the specified products. The MCAI states:

Within the scope of the Fuel System Safety Program (FSSP), analyses of the wire routing showed that the route 2S of the fuel electrical circuit in the Right Hand (RH) wing ensures insufficient segregation between fuel quantity indication wires and the 115 Volts Alternating Current (VAC) wires of route 2S which could, under certain conditions, lead to a short circuit and subsequent arcing, creating a potential ignition source in the fuel tank vapour space.

This condition, if not detected, could result in a fuel tank explosion and consequent loss of the aeroplane.

To address this potential unsafe condition, DGAC France issued [an] AD * * * to require improvements of the design as specified in Airbus Service Bulletin (SB) A310-28-2148 original issue or Revision 01. EASA AD 2007-0230 [(http://ad.easa.europa.eu/blob/easa_ad_2007_0230_Superseded.pdf/AD_2007-0230_1)], which superseded [a] DGAC France AD * * *, [which] required those same actions, plus additional work 1, as defined in Airbus SB A310-28-2148 Revision 02.

Since EASA AD 2007-0230 was issued, an operator reported the possibility of chafing between the new routing of the wire bundle 2S in the RH wing pylon area and the wire bundle of No. 2 engine generator. The modification of this zone was introduced by Airbus SB A310-28-2148 Revision 02 as additional work 1. Investigation results showed that, to avoid the risk of chafing, the affected wiring harnesses must be installed at a higher position to provide sufficient clearance with the newly routed wire bundle 2S conduit.

Airbus published Revision 03 of SB A310-28-2148 to implement these changes as additional work 2. Subsequently, a new potential interference due to insufficient clearance was found, which prompted Airbus to issue SB A310-28-2148 Revision 04.

Prompted by these findings and actions, EASA issued AD 2011-0005 [(http://ad.easa.europa.eu/blob/easa_ad_2011_0005_Superseded.pdf/AD_2011-0005_1)], retaining the requirements of EASA AD 2007-0230, which was superseded, and required the additional work 2 as specified in Revisions 03 and 04 of Airbus SB A310-28-2148.

Since EASA AD 2011-0005 was issued, several operators of aeroplanes not having been modified in-service through Airbus SB A310-36-2015, or without having Airbus modification 07633 applied in production, reported to have embodied Airbus SB A310-28-2148 at Revision 02 or Revision 03 on the aeroplane. However, the adequate instructions to avoid the new interferences were only introduced in Airbus SB A310-28-2148 Revision 04.

For the reasons described above, this new [EASA] AD retains the requirements of EASA AD 2011-0005, which is superseded, and requires, for certain aeroplanes, the additional work 3 [segregating wire route 2S in the RH pylon area or modifying the wire routings] as defined in Airbus SB A310-28-2148 Revision 06. As SB A310-28-2148 Revision 07 was issued to clarify the additional work 1, 2 and 3 [segregating wire route 2S in the RH pylon area or modifying the wire routings] for aeroplanes that have previously embodied that SB at original issue, Revision 01 or Revision 02, this AD also clarifies the required additional work.

You may examine the MCAI in the AD docket on the Internet at http://www.regulations.gov by searching for and locating it in Docket No. FAA-2013-1072.

Relevant Service Information

Airbus has issued Mandatory Service Bulletin A310-28-2148, Revision 07, dated February 13, 2012. The actions described in this service information are intended to correct the unsafe condition identified in the MCAI.

Change to AD 2012-03-04, Amendment 39-16945 (77 FR 21397, April 10, 2012)

This proposed AD would retain all requirements of AD 2012-03-04, Amendment 39-16945 (77 FR 21397, April 10, 2012). Since AD 2012-03-04 was issued, the AD format has been revised, and certain paragraphs have been rearranged. As a result, the corresponding paragraph designators have changed in this proposed AD, as listed in the following table:

Revised Paragraph Designators
Requirement in AD 2012-03-04, Amendment 39-16945 (77 FR 21397, April 10, 2012) | Corresponding requirement in this proposed AD
paragraph (h) | paragraph (l)(1)
paragraph (i) | paragraph (h)
paragraph (j) | paragraph (i)
paragraph (k) | paragraph (j)
paragraph (l) | paragraph (k)
paragraph (m) | paragraph (l)(2)

Also, we have revised certain paragraphs of AD 2012-03-04, Amendment 39-16945 (77 FR 21397, April 10, 2012), by placing the required service information into sub-paragraphs in this proposed AD.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 41 airplanes of U.S. registry.

We estimate the following costs to comply with this proposed AD:

Estimated Costs
Action | Labor cost | Parts cost | Cost per product | Cost on U.S. operators
Modification [retained actions from AD 2012-03-04, Amendment 39-16945 (77 FR 21397, April 10, 2012)] | 62 work-hours × $85 per hour = $5,270 | $2,210 | $7,480 | $306,680
Modification (additional work) [new proposed action] | 32 work-hours × $85 per hour = $2,720 | 1,100 | 3,820 | 156,620

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2012-03-04, Amendment 39-16945 (77 FR 21397, April 10, 2012), and adding the following new AD:

Airbus: Docket No. FAA-2013-1072; Directorate Identifier 2012-NM-164-AD.

(a) Comments Due Date

We must receive comments by February 28, 2014.

(b) Affected ADs

This AD supersedes AD 2012-03-04, Amendment 39-16945 (77 FR 21397, April 10, 2012).

(c) Applicability

This AD applies to Airbus Model A310-203, -204, -221, -222, -304, -322, -324, and -325 airplanes, certificated in any category, all certified models, all serial numbers.

(d) Subject

Air Transport Association (ATA) of America Code 28, Fuel.

(e) Reason

This AD was prompted by reports of new interferences of newly routed wire bundle 2S. We are issuing this AD to prevent short circuits leading to arcing, and possible fuel tank explosion.

(f) Compliance

Comply with this AD within the compliance times specified, unless already done.

(g) Retained Modification of Routing Wires With Revised Service Information

This paragraph restates the modification required by paragraph (g) of AD 2012-03-04, Amendment 39-16945 (77 FR 21397, April 10, 2012), with revised service information. For all airplanes except airplanes on which Airbus Service Bulletin A310-28-2148, Revision 02, dated March 9, 2007, has been done (Airbus Modifications 12427 and 12435): Within 4,000 flight hours after September 3, 2004 (the effective date of AD 2004-15-16, Amendment 39-13750 (69 FR 45578, July 30, 2004)), modify the routing of wires in the right-hand (RH) wing by installing cable sleeves. Do the modification as per the Accomplishment Instructions of the service information specified in paragraph (g)(1), (g)(2), (g)(3), (g)(4), or (g)(5) of this AD. As of February 20, 2008 (the effective date of AD 2008-01-05, Amendment 39-15330 (73 FR 2795, January 16, 2008)), only the service information specified in paragraphs (g)(2), (g)(3), (g)(4), and (g)(5) of this AD may be used. As of May 15, 2012 (the effective date of AD 2012-03-04), only the service information specified in paragraphs (g)(3), (g)(4), and (g)(5) of this AD may be used. As of the effective date of this AD, only the service bulletin specified in paragraph (g)(5) of this AD may be used.

(1) Airbus Service Bulletin A310-28-2148, Revision 01, dated October 29, 2002.

(2) Airbus Service Bulletin A310-28-2148, Revision 02, dated March 9, 2007.

(3) Airbus Mandatory Service Bulletin A310-28-2148, Revision 05, dated August 3, 2010.

(4) Airbus Mandatory Service Bulletin A310-28-2148, Revision 06, dated August 31, 2011.

(5) Airbus Mandatory Service Bulletin A310-28-2148, Revision 07, dated February 13, 2012.

(h) Retained Modification of Protection Sleeves With Revised Service Information

This paragraph restates the modification required by paragraph (i) of AD 2012-03-04, Amendment 39-16945 (77 FR 21397, April 10, 2012), with revised service information. For airplanes on which the actions specified in Airbus Service Bulletin A310-28-2148, dated January 23, 2002; or Airbus Service Bulletin A310-28-2148, Revision 01, dated October 29, 2002; have been done before February 20, 2008 (the effective date of AD 2008-01-05, Amendment 39-15330 (73 FR 2795, January 16, 2008)), except for airplanes on which Airbus Service Bulletin A310-28-2148, Revision 02, dated March 9, 2007, has been done (Airbus Modifications 12427 and 12435): Within 6,000 flight hours or 30 months after February 20, 2008 (the effective date of AD 2008-01-05), whichever occurs first, perform further modification by installing additional protection sleeves in the outer wing area near the cadensicon sensor and segregating wire route 2S in the RH pylon area, in accordance with the Accomplishment Instructions of service information specified in paragraph (h)(1), (h)(2), (h)(3), or (h)(4) of this AD. As of May 15, 2012 (the effective date of AD 2012-03-04), only the service information specified in paragraphs (h)(2), (h)(3), and (h)(4) of this AD may be used. As of the effective date of this AD, only the service bulletin specified in paragraph (h)(4) of this AD may be used.

(1) Airbus Service Bulletin A310-28-2148, Revision 02, dated March 9, 2007.

(2) Airbus Mandatory Service Bulletin A310-28-2148, Revision 05, dated August 3, 2010.

(3) Airbus Mandatory Service Bulletin A310-28-2148, Revision 06, dated August 31, 2011.

(4) Airbus Mandatory Service Bulletin A310-28-2148, Revision 07, dated February 13, 2012.

(i) Retained New Modification/Installation of Wire Routings for Certain Airplanes With Revised Service Information

This paragraph restates the new modification/installation required by paragraph (j) of AD 2012-03-04, Amendment 39-16945 (77 FR 21397, April 10, 2012), with revised service information. For airplanes on which the actions specified in Airbus Service Bulletin A310-28-2148, Revision 02, dated March 9, 2007, have been accomplished, and do not have production modification 07633; and on which Airbus Service Bulletin A310-36-2015 has not been done: Within 6,000 flight hours or 30 months after May 15, 2012 (the effective date of AD 2012-03-04), whichever occurs first, modify the wire routings, in accordance with the Accomplishment Instructions of the service information specified in paragraph (i)(1), (i)(2), or (i)(3) of this AD. As of the effective date of this AD, only the service bulletin specified in paragraph (i)(3) of this AD may be used.

(1) Airbus Mandatory Service Bulletin A310-28-2148, Revision 05, dated August 3, 2010.

(2) Airbus Mandatory Service Bulletin A310-28-2148, Revision 06, dated August 31, 2011.

(3) Airbus Mandatory Service Bulletin A310-28-2148, Revision 07, dated February 13, 2012.

(j) Retained New Modification/Installation of Bracket for Certain Other Airplanes With Revised Service Information

This paragraph restates the new modification/installation required by paragraph (k) of AD 2012-03-04, Amendment 39-16945 (77 FR 21397, April 10, 2012), with revised service information. For airplanes on which the actions specified in Airbus Service Bulletin A310-28-2148, Revision 02, dated March 9, 2007, have been accomplished, and have production modification 07633; or on which Airbus Service Bulletin A310-36-2015 has been done: Within 1,000 flight hours after May 15, 2012 (the effective date of AD 2012-03-04), install a modified bracket, in accordance with paragraph 3.B.(7), “Additional Work 2,” of the Accomplishment Instructions of the service information specified in paragraph (j)(1), (j)(2), or (j)(3) of this AD. As of the effective date of this AD, only the service bulletin specified in paragraph (j)(3) of this AD may be used.

(1) Airbus Mandatory Service Bulletin A310-28-2148, Revision 05, dated August 3, 2010.

(2) Airbus Mandatory Service Bulletin A310-28-2148, Revision 06, dated August 31, 2011.

(3) Airbus Mandatory Service Bulletin A310-28-2148, Revision 07, dated February 13, 2012.

(k) Retained Modification/Installation Provision for Certain Airplanes

This paragraph restates the modification/installation provision specified in paragraph (l) of AD 2012-03-04, Amendment 39-16945 (77 FR 21397, April 10, 2012). For airplanes on which the actions specified in Airbus Service Bulletin A310-28-2148, Revision 03, dated June 2, 2009, have been accomplished; and have modification 07633 done in production; or on which the actions specified in Airbus Service Bulletin A310-36-2015 have been done; no further action is required by paragraphs (g) through (j) of this AD.

(l) Retained Credit for Previous Actions

(1) This paragraph restates the credit for previous actions required by paragraph (h) of AD 2012-03-04, Amendment 39-16945 (77 FR 21397, April 10, 2012). This paragraph provides credit for the modification of the routing of wires required by paragraph (g) of AD 2012-03-04, if the modification was performed before September 3, 2004 (the effective date of AD 2004-15-16, Amendment 39-13750 (69 FR 45578, July 30, 2004)), using Airbus Service Bulletin A310-28-2148, dated January 23, 2002.

(2) This paragraph restates the credit for previous actions required by paragraph (m) of AD 2012-03-04, Amendment 39-16945 (77 FR 21397, April 10, 2012). This paragraph provides credit for modifications required by paragraphs (g), (i), (j), and (k) of AD 2012-03-04, if the modifications were performed before May 15, 2012 (the effective date of AD 2012-03-04), using Airbus Mandatory Service Bulletin A310-28-2148, Revision 04, dated April 14, 2010.

(m) New Requirement of This AD: Additional Work 2 and 3

For airplanes on which the actions specified in Airbus Service Bulletin A310-28-2148, Revision 02, dated March 9, 2007, have been accomplished, and on which the actions specified in Airbus Service Bulletin A310-36-2015 have not been done; or have Airbus Modification 07633 done in production: Within 1,000 flight hours or 12 months after the effective date of this AD, whichever occurs first, do the modification, in accordance with paragraphs “Additional Work 2” and “Additional Work 3” of the Accomplishment Instructions of Airbus Mandatory Service Bulletin A310-28-2148, Revision 07, dated February 13, 2012.

(n) New Requirement of This AD: Additional Work 3

For airplanes on which the actions specified in Airbus Service Bulletin A310-28-2148, Revision 03, dated June 2, 2009, have been accomplished, and do not have production modification 07633 or Airbus Service Bulletin A310-36-2015 has not been done: Within 1,000 flight hours or 12 months after the effective date of this AD, whichever occurs first, do the modification, in accordance with paragraph “Additional Work 3” of the Accomplishment Instructions of Airbus Mandatory Service Bulletin A310-28-2148, Revision 07, dated February 13, 2012.

(o) New Requirement of This AD: Additional Work 1 and 2

For airplanes on which the actions specified in Airbus Service Bulletin A310-36-2015 have not been accomplished and production modification 07633 has not been done, and that have done the actions specified in paragraphs (o)(1) and (o)(2) of this AD: Within 6,000 flight hours or 30 months after the effective date of this AD, whichever occurs first, do the modification, in accordance with paragraphs “Additional Work 1” and “Additional Work 2” of the Accomplishment Instructions of Airbus Mandatory Service Bulletin A310-28-2148, Revision 07, dated February 13, 2012.

(1) Modification in accordance with the Accomplishment Instructions of Airbus Service Bulletin A310-28-2148, dated January 23, 2002; or Airbus Service Bulletin A310-28-2148, Revision 01, dated October 29, 2002.

(2) Further modification by “Additional Work 3” of the Accomplishment Instructions of Airbus Mandatory Service Bulletin A310-28-2148, Revision 06, dated August 31, 2011.

(p) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent, or by the design approval holder (DAH) with a State of Design Authority's design organization approval). For a repair method to be approved, the repair approval must specifically refer to this AD. You are required to ensure the product is airworthy before it is returned to service.

(q) Related Information

(1) Refer to Mandatory Continuing Airworthiness Information (MCAI) European Aviation Safety Agency Airworthiness Directive 2012-0188, dated September 19, 2012, for related information. This MCAI may be found in the AD docket on the Internet at http://www.regulations.gov by searching for and locating Docket No. FAA-2013-1072.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on January 7, 2014.
Jeffrey E. Duven,
Manager, Transport Airplane Directorate, Aircraft Certification Service.

[FR Doc. 2014-00495 Filed 1-13-14; 8:45 am]

BILLING CODE 4910-13-P